DEPARTMENT OF HEALTH AND HUMAN SERVICES

National Institutes of Health

National Institute on Minority Health and Health Disparities; Cancellation of Meeting

Notice is hereby given of the cancellation of the National Institute on Minority Health and Health Disparities Special Emphasis Panel, October 20, 2022, 11:00 a.m. to October 20, 2022, 6:00 p.m., National Institutes of Health, Gateway Plaza, 7201 Wisconsin Ave., Bethesda, MD 20817 which was published in the Federal Register on September 14, 2022, FR Doc 2022-19885, 87 FR 56429.

This notice is being amended to announce that the meeting is cancelled and will not be rescheduled.

Dated: September 29, 2022.
David W. Freeman,
Program Analyst, Office of Federal Advisory Committee Policy.

[FR Doc. 2022-21567 Filed 10-4-22; 8:45 am]

BILLING CODE 4140-01-P